DEPARTMENT OF THE INTERIOR

National Park Service

[NPS-WASO-NAGPRA-NPS0035043; PPWOCRADN0-PCU00RP14.R50000]

Notice of Inventory Completion Amendment: University of Arkansas Museum Collections, Fayetteville, AR

AGENCY: National Park Service, Interior.

ACTION: Notice; amendment.

SUMMARY: In accordance with the Native American Graves Protection and Repatriation Act (NAGPRA), the University of Arkansas Museum Collections has amended a Notice of Inventory Completion published in the Federal Register on April 29, 2022. This notice amends the number of associated funerary objects in collections removed from Cross, Mississippi, and Poinsett Counties, AR.

DATES: Repatriation of the human remains and associated funerary objects in this notice may occur on or after January 19, 2023.

ADDRESSES: Dr. Mary Suter, University of Arkansas Museum Collections, Biomass 125, Fayetteville, AR 72701, telephone (479) 575-3456, email msuter@uark.edu.

SUPPLEMENTARY INFORMATION: This notice is published as part of the National Park Service's administrative responsibilities under NAGPRA. The determinations in this notice are the sole responsibility of the University of Arkansas Museum Collections. The National Park Service is not responsible for the determinations in this notice. Additional information on the amendments and determinations in this notice, including the results of consultation, can be found in the inventory or related records held by the University of Arkansas Museum Collections.

Amendment

This notice amends the determinations published in a Notice of Inventory Completion in the Federal Register (87 FR 25527-25529, April 29, 2022). Repatriation of the items in the original Notice of Inventory Completion has not occurred. This notice identifies one individual as missing and amends the number of associated funerary objects listed in the original notice by the addition of two associated funerary objects removed from the Carden Bottoms Site (3YE14).

At an unknown date, human remains representing, at minimum, 84 individuals were removed from unidentified sites located in Northeast Arkansas. Of that number, human remains representing one individual is currently missing from the collection. The University of Arkansas Museum continues to look for the missing individual.

From the Carden Bottoms Site (3YE14) in Yell County, AR, the five (previously identified as three) associated funerary objects are two (previously identified as one) complete ceramic bowls, two reconstructed ceramic bowls, and one piece of daub.

Determinations (as amended)

Pursuant to NAGPRA and its implementing regulations, and after consultation with the appropriate Indian Tribes and Native Hawaiian organizations, the University of Arkansas Museum Collections has determined that:

• The human remains represent the physical remains of 211 individuals of Native American ancestry.

• The 103 objects are reasonably believed to have been placed with or near individual human remains at the time of death or later as part of the death rite or ceremony.

• There is a relationship of shared group identity that can be reasonably traced between the human remains and associated funerary objects described in this notice and the Quapaw Nation (previously listed as The Quapaw Tribe of Indians).

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 19, 2023. If competing requests for repatriation are received, the University of Arkansas Museum Collections must determine the most appropriate requestor prior to repatriation. Requests for joint repatriation of the human remains and associated funerary objects are considered a single request and not competing requests. The University of Arkansas Museum Collections is responsible for sending a copy of this notice to the Indian Tribes and Native Hawaiian organizations identified in this notice.

Authority: Native American Graves Protection and Repatriation Act, 25 U.S.C. 3003, and the implementing regulations, 43 CFR 10.9, § 10.10, § 10.13, and § 10.14.

Dated: December 13, 2022.
Melanie O'Brien,
Manager, National NAGPRA Program.

[FR Doc. 2022-27527 Filed 12-19-22; 8:45 am]

BILLING CODE 4312-52-P